DEPARTMENT OF ENERGY

Federal Energy Regulatory Commission

[Docket Nos. ER11-2875-001, ER11-2875-002; Docket No. EL11-20-001]

PJM Interconnection, L.L.C., PJM Power Providers Group v. PJM Interconnection, L.L.C.; Supplemental Notice of Staff Technical Conference

On June 13, 2011, the Commission issued an order in this proceeding establishing a staff technical conference.¹ This notice establishes the agenda and topics for discussion at the technical conference, which will be held on July 28, 2011 from 9 a.m. to 12:30 p.m. (EDT) in the Commission Meeting Room at the Commission's headquarters, 888 First Street, NE., Washington, DC. Commission staff will lead the technical conference, and representatives from the following entities will participate as panelists: American Public Power Association, Dominion Resources Services, Inc., Maryland Public Service Commission, Monitoring Analytics, L.L.C., National Rural Electric Cooperative Association, New Jersey Board of Public Utilities, PJM Interconnection, L.L.C., PJM Load Group, PJM Power Providers Group, and PSEG Companies. All interested parties are invited to attend, and registration is not required.

¹ PJM Interconnection, L.L.C., 135 FERC ¶ 61,228 (2011).

The issues and questions to be discussed during this conference are attached. The purpose of the technical conference is to provide Commission staff and interested parties an opportunity to explore the applicability of PJM's Minimum Offer Price Rule (MOPR) to resources designated as “self supply.”

A free webcast of this event is available through http://www.ferc.gov. Anyone with Internet access who desires to view this event can do so by navigating to the Calendar of Events on http://www.ferc.gov and locating this event in the calendar. The event will contain a link to its webcast. The Capitol Connection provides technical support for the free webcasts. It also offers access to this event via television in the DC area and via phone bridge for a fee. If you have any questions, visit http://www.CapitolConnection.org or call (703) 993-3100.

Commission conferences are accessible under section 508 of the Rehabilitation Act of 1973. For accessibility accommodations please send an e-mail to accessibility@ferc.gov or call toll free 1-866-208-3372 (voice) or 202-208-8659 (TTY), or send a fax to 202-208-2106 with the required accommodations.

For more information on this conference, please contact Jonathan Fernandez at jonathan.fernandez@ferc.gov or (202) 502-6604.

Dated: July 22, 2011.
Nathaniel J. Davis, Sr.,
Deputy Secretary.

Discussion Questions for Technical Conference on Self Supply and PJM's Minimum Offer Price Rule

July 28, 2011

Agenda

9 a.m.-10:30 a.m.

1. Explain your understanding of how new resources designated as “self supply” would commit, clear, and be compensated in PJM's base residual auction prior to the April 12, 2011 Order.

2. Explain the conditions under which exempting new self-supply resources from PJM's MOPR would not present the opportunity to exercise buyer market power.

3. Explain how the Commission's April 12 Order may impact long-term resource planning.

10:30 a.m.-10:45 a.m.—Break

10:45 a.m.-12:30 p.m.

4. Does the same incentive to exercise buyer market power exist for buyers who largely or totally self-supply as compared to buyers who self-supply only a small portion of their load?

5. Does the same incentive to exercise buyer market power exist for small load serving entities as compared to large load serving entities?

6. Would the market power concern about using self-supply be alleviated if the self-supplied resources are acquired through a procurement process that does not discriminate between new and existing resources? If yes, what factors should be analyzed to determine whether a procurement process is non-discriminatory?

7. Explain why the Fixed Resource Requirement (FRR) Alternative is or is not a viable alternative for those wishing to self-supply.

8. What other alternatives to the FRR option would allow parties to self-supply while deterring buyer market power?

Panelists

• Patrick McCullar, President & CEO, Delaware Municipal Electric Corporation, Inc., representing American Public Power Association

• Gregory J. Morgan, Managing Director of Regulated Operations, Dominion Virginia Power, representing Dominion Resources Services, Inc.

• Douglas R. M. Nazarian, Chairman, Maryland Public Service Commission

• Dr. Joseph E. Bowring, Market Monitor, Monitoring Analytics, L.L.C.

• David L. Mohre, Executive Director, Energy & Power Division, National Rural Electric Cooperative Association

• Lee A. Solomon, President, New Jersey Board of Public Utilities

• Andrew Ott, Senior Vice President-Markets, PJM Interconnection, L.L.C.

• Mark Scott, Director, Structured Trading, Customized Energy Solutions, representing PJM Load Group

• Dr. Roy Shanker, Consultant, PJM Power Providers Group

• Dr. William Hogan, Professor, Harvard University, representing PSEG Companies

[FR Doc. 2011-19086 Filed 7-27-11; 8:45 am]

BILLING CODE 6717-01-P